FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
004220N | Richard D. Kim dba Best Containers Express Co., 20435 S. Western Avenue, Suite B, Torrance, CA 90501-1506 | December 16, 2004.
016528N | Uni International, America Corp., 880 Mondalay Avenue, #C 1211, Clearwater, FL 33767 | February 5, 2005.
004635NF | World Shipping America Inc., 333 Sylvan Avenue, #209, Englewood Cliffs, NJ 07632 | January 19, 2005.

Sandra L. Kusumoto,
Director, Bureau of Certification and Licensing.

[FR Doc. 05-6275 Filed 3-29-05; 8:45 am]

BILLING CODE 6730-01-P